FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than April 1, 2016.

A. Federal Reserve Bank of Chicago (Colette A. Fried, Assistant Vice President) 230 South LaSalle Street, Chicago, Illinois 60690-1414:

1. Venkateswararao Alla, Rock Island, Illinois, individually and as trustee of the Revocable Trust Agreements known as: Atlantic Financial Holdings I Trust, the Atlantic Financial Holdings II Trust, the Atlantic Financial Holdings III Trust, and the Atlantic Financial Holdings IV Trust, all of Rock Island, Illinois; and acting in concert with Rajesh Alla, Rakesh Alla, both of Rock Island, Illinois, and Suresh Alla, Moline, Illinois; to acquire additional voting shares of Ambank Holdings, Inc., and thereby indirectly acquire additional voting shares of American Bank and Trust Company, N.A., both in Davenport, Iowa.

B. Federal Reserve Bank of Kansas City (Dennis Denney, Assistant Vice President) 1 Memorial Drive, Kansas City, Missouri 64198-0001:

1. Larry Mulcahy, Olathe, Kansas; to acquire voting shares of Roxbury Bancshares, Inc., and thereby indirectly acquire voting shares of Roxbury Bank, both in Roxbury, Kansas.

Board of Governors of the Federal Reserve System, March 14, 2016.
Michael J. Lewandowski,
Associate Secretary of the Board.

[FR Doc. 2016-06031 Filed 3-16-16; 8:45 am]

BILLING CODE 6210-01-P